SMALL BUSINESS ADMINISTRATION

Data Collection Available for Public Comments

ACTION: 60-Day notice and request for comments.

SUMMARY: In accordance with the Paperwork Reduction Act of 1995, this notice announces the Small Business Administration's intentions to request approval on a new and/or currently approved information collection.

DATES: Submit comments on or before December 22, 2023.

ADDRESSES: Send all comments regarding whether this information collection is necessary for the proper performance of the function of the agency, whether the burden estimates are accurate, and if there are ways to minimize the estimated burden and enhance the quality of the collection, to, Sharon Gurley, Director Program Review, Office of Government Contracting, Small Business Administration, Washington, DC 20416.

FOR FURTHER INFORMATION CONTACT: Sharon Gurley, Director Program Review, Office of Government Contracting, 202-205-7084 sharon.gurley@sba.gov, Curtis B. Rich, Agency Clearance Officer, 202-205-7030 curtis.rich@sba.gov.

SUPPLEMENTARY INFORMATION: The Small Business Administration needs to collect this information to determine an applicant's eligibility for admission into the 8(a) Business Development (BD) Program and for continued eligibility to participate in the Program. SBA also uses some of the information for an annual report to Congress on the 8(a) BD Program.

Respondents can be individuals and firms making applications to the 8(a) BD Program, or respondents can be individuals and Participant firms revising information related to the 8(a) BD Program Annual Review.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

OMB Control 3245-0331

Title: 8(A) SBD Paper and Electronic Application.”

Description of Respondents: Individuals and Participant firms.

Form Numbers: 1010-NHO, 1010-Business, 1010-CDC, 1010-AIT, 1010-ANC, 1010-IND, 1010—individual.

Annual Responses: 60,070.

Annual Burden: 15,248.

Curtis Rich,
Agency Clearance Officer.

[FR Doc. 2023-23361 Filed 10-20-23; 8:45 am]

BILLING CODE 8026-09-P